DEPARTMENT OF HOUSING AND URBAN DEVELOPMENT

[Docket No. FR-5909-N-92]

30-Day Notice of Proposed Information Collection: Youth Homelessness Demonstration Program (YHDP)

AGENCY: Office of the Chief Information Officer, HUD.

ACTION: Notice.

SUMMARY: HUD is seeking approval from the Office of Management and Budget (OMB) for renewal of the information collection described below. In accordance with the Paperwork Reduction Act, HUD is requesting comment from all interested parties on the proposed collection of information. The purpose of this notice is to allow for 60 days of public comment.

DATES: Comments Due Date: January 23, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for renewal of the information collection described in Section A.

The Federal Register notice that solicited public comment on the information collection for a period of 60 days was published on September 2, 2016 at 81 FR 60719.

A. Overview of Information Collection

Title of Information Collection: Youth Homelessness Demonstration Program (YHDP).

OMB Control Number: 2506-0210.

Type of Request: Renewal of previously approved collection.

Form Number: Youth Homelessness Demonstration Application (all parts), SF 424, HUD-2991, HUD-2993, HUD-2880, and SF-LLL, HUD-50070.

Description of the need for the information and proposed use: The appropriation for the Youth Homelessness Demonstration Program (YHDP) was made available through the Consolidated Appropriations Act, 2016 (Pub. L. 114-113, approved December 18, 2015), “the Act”. The Act appropriated $33,000,000 to HUD “to implement projects to demonstrate how a comprehensive approach to serving homeless youth, age 24 and under, in up to 10 communities, including at least four rural communities, can dramatically reduce youth homelessness,” $5 million to HUD “to provide technical assistance on youth homelessness, and collection, analysis, and reporting of data and performance measures under the comprehensive approaches to serve homeless youth, in addition to and in coordination with other technical assistance funds provided under this title,” and a further $2.5 million to HUD “for homeless youth program evaluations conducted in partnership with the Department of Health and Human Services.” Through this NOFA, HUD is holding a competition in order to identify those 10 communities that will make best use of the congressionally appropriated funds and provide HUD with the best opportunity to meet the YHDP objectives. Without asking for this information, HUD will be unable to meet the congressional mandate within the Act. Once communities have been selected, HUD must collect individual grant applications to meet the Act requirement that YHDP projects be renewable under the Continuum of Care (CoC) Program authorized by the McKinney-Vento Act, as amended by S. 896 The Homeless Emergency Assistance and Rapid Transition to Housing (HEARTH) Act of 2009 (42 U.S.C. 11371 et seq.) and the CoC Program Homeless Assistance Grant Application requirements (OMB 2506-0112). Finally, HUD must collect the Coordinated Community Plan to meet the appropriations requirement “to demonstrate how a comprehensive approach to serving homeless youth . . . can dramatically reduce youth homelessness.” In HUD's experience leading similar coordinated community efforts (e.g. LGBTQ Youth Homelessness Prevention Pilot, OMB 2506-0204), the planning process is a challenging and resource intensive endeavor, requiring systems analysis, values sharing, priority negotiating, the creation of leadership structure, the development of a logic model, and a plan for constant feedback and continuous process improvement, among other things. The submission of a coordinated community plan will allow HUD to assess the ability of the selected communities to appropriately use the funding made available by Congress.

Submission documents | Number of respondents | Responses per year | Total annual responses | Hours per response | Total hours | Hourly cost per response | Annual cost
Component 1. Community Selection
YHDP Community Selection Application | 200 | 1 | 200 | 25.00 | 5,000.00 | * $25 | $125,000.00
Acknowledgement of Application Receipt (HUD2993) (only applicants granted waiver to submit a paper application) | 10 | 1 | 10 | 0.17 | 1.70 | 25 | 42.50
Subtotal |  |  | 210 | 25.00 | 5,001.70 |  | 125,042.50
Component 2. Project Application
YHDP Project Application | 10 | 5 | 50 | 8.00 | 400.00 | 25 | 10,000.00
HUD-2880—Applicant/Recipient Disclosure/Update Report (2510-0011) | 10 | 5 | 50 | 2.00 | 100.00 | 25 | 2,500.00
Subtotal |  |  | 50 | 10.00 | 500.00 |  | 12,500.00
Component 3. Coordinated Community Plan
YHDP Plan | 10 | 1 | 10 | 240.00 | 2,400.00 | 25 | 60,000.00
Certification of Consistency with the Consolidated Plan (HUD-2991) (2506-0112) | 10 | 1 | 10 | 0.17 | 1.70 | 25 | 42.50
Subtotal |  |  | 10 | 240.17 | 2,401.70 |  | 60,042.50
Total Application Collection |  |  |  |  | 7,903.40 |  | 197,585.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comments in response to these questions.

C. Authority

Section 3507 of the Paperwork Reduction Act of 1995, 44 U.S.C. Chapter 35.

Dated: December 15, 2016.
Anna P. Guido,
Department Paperwork Reduction Act Officer, Office of the Chief Information Officer.

[FR Doc. 2016-30919 Filed 12-22-16; 8:45 am]

BILLING CODE 4210-67-P